DEPARTMENT OF COMMERCE

Foreign-Trade Zones Board

[B-25-2018]

Foreign-Trade Zone (FTZ) 81—Portsmouth, New Hampshire; Notification of Proposed Production Activity; Textiles Coated International Inc. (Polytetrafluoroethylene Products); Manchester and Londonderry, New Hampshire; Correction

The Federal Register notice (83 FR 17790, 4/24/18) describing the notification of proposed production activity submitted by the Textiles Coated International Inc., operator of Site 4 of FTZ 81, requesting authority to produce polytetrafluoroethylene products at its facilities in Manchester and Londonderry, New Hampshire, is corrected as follows:

In the heading of the notice, third line, the correct docket number for the case should read “Docket B-25-2018.”

Dated: April 24, 2018.
Andrew McGilvray,
Executive Secretary.

[FR Doc. 2018-09049 Filed 4-27-18; 8:45 am]

BILLING CODE 3510-DS-P